DEPARTMENT OF COMMERCE

Foreign-Trade Zones Board

[B-43-2020]

Foreign-Trade Zone (FTZ) 61—San Juan, Puerto Rico; Notification of Proposed Production Activity; HP International Trading B.V. (Puerto Rico Branch), LLC (Inkjet Ink and 3D Printing Fluids (Bulk and Cartridges) and Related Subassemblies), Aguadilla, Puerto Rico

HP International Trading B.V. (Puerto Rico Branch), LLC (HP International), submitted a notification of proposed production activity to the FTZ Board for its facility in Aguadilla, Puerto Rico. The notification conforming to the requirements of the regulations of the FTZ Board (15 CFR 400.22) was received on June 24, 2020.

The HP International facility is located within Subzone 61V. The facility is used for the production of inkjet inks/dispersions/printing fluids/cartridges, 3D printing fluids/cartridges and related subassemblies used in the commercial and industrial graphics markets. Pursuant to 15 CFR 400.14(b), FTZ activity would be limited to the specific foreign-status materials and components and specific finished products described in the submitted notification (as described below) and subsequently authorized by the FTZ Board.

Production under FTZ procedures could exempt HP International from customs duty payments on the foreign-status components used in export production. On its domestic sales, for the foreign-status materials/components noted below, HP International would be able to choose the duty rates during customs entry procedures that apply to: bulk inkjet water-based 3D printing fluids (in drums or totes); inkjet UV, solvent, and water-based black inks (bulk -drums, totes, or bottle); inkjet UV, solvent, and water-based color inks; bulk inkjet water-based dispersions and printing fluids (in drums or totes); empty 3D supply assemblies (consisting of bags, valves, and other plastic parts); empty inkjet plastic (vinyl acetate copolymer) bag subassemblies; filled large format inkjet cartridges (bag in a box); and, filled 3D powder or fluid cartridges (bag in a box) (duty rate ranges from duty-free to 6.5%). HP International would be able to avoid duty on foreign-status components which become scrap/waste. Customs duties also could possibly be deferred or reduced on foreign-status production equipment.

The components and materials sourced from abroad include: methanesulfonic acids (for PH balancing); disodium catechol disulfonate (chelating agent); tripropylene glycol methyl ether solvents (for inkjet vehicle formulation); tripropylene glycol monobutyl ether solvents (for inkjet vehicle formulation); tetraethylene glycol solvents (for inkjet vehicle formulation); succinic acids (for PH balancing); tris(hydroxymethyl)aminomethane buffer (for PH stabilization); sodium hydroxide (chelating agent); acetic acid, hydroxy, monosodium salt (chelating agent); 2-pyrrolidone (solvents for inkjet vehicle formulation); 1-(2-hydroxyethyl) pyrrolidin-2-one (solvents for inkjet vehicle formulation); pigment green 7 (powder for water-based inkjet inks); pigment blue 15, 15:1, 15:2, 15:3, 15:4, 15:6 (powder for water-based inkjet inks); pigment orange 43 (powder for water-based inkjet inks); pigment red 122/pigment violet 19 magenta pigment (for water-based inkjet inks); 1,2 butanediol (solvents for inkjet vehicle formulation); 2-methylisothiazol-3H(2H)-one (biocides for inkjet ink preservation); polymer solution for inkjet inks; aluminum, hydroxy[29H,31H-phthalocyaninato(2-)-.kappa.n29,.kappa.n30,.kappa.n31,.kappa.n32], chloro sulfo derivatives, sodium salts (chelating agent); oxirane, methyl-, polymer with oxirane, mono (3,5,5-trimethylhexyl) ether (wetting agent for inkjet inks); polyamide powder for 3D printing applications; coagulant agent (processing aid for industrial application); bag assembly for powder cartridges (plastic bag with a cardboard frame attached); high density polyethylene (HDPE) bottles for lab samples; plastic lids and caps for inkjet/powder cartridges; plastic sheets for packaging 3D powder supplies; plastic and foam components for 3D powder cartridges—spouts, rivets, and retainers; nitrile o-rings; rubber membrane film for cartridges valves; stainless steel springs; stainless steel balls for valves; 3D powder cartridge components packaging support—plastic valves and cardboard packaging; and, 3D powder cartridge valves (duty rate ranges from 2.0% to 6.5%). The request indicates that certain materials/components are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is August 31, 2020.

A copy of the notification will be available for public inspection in the “Reading Room” section of the Board's website, which is accessible via www.trade.gov/ftz.

For further information, contact Diane Finver at Diane.Finver@trade.gov or (202) 482-1367.

Dated: July 7, 2020.
Andrew McGilvray,
Executive Secretary.

[FR Doc. 2020-15835 Filed 7-21-20; 8:45 am]

BILLING CODE 3510-DS-P